FEDERAL COMMUNICATIONS COMMISSION

[OMB 3060-1033 and 3060-1163]

Information Collections Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written PRA comments should be submitted on or before October 5, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-1033.

Title: Multi-Channel Video Program Distributor EEO Program Annual Report, FCC Form 396-C.

Form Number: FCC Form 396-C.

Type of Review: Extension of a currently approved collection.

Respondents: Business or other for-profit entities; Not-for-profit institutions.

Number of Respondents and Responses: 2,200 respondents and 2,620 responses.

Frequency of Response: Recordkeeping requirement; Once every five year reporting requirement; Annual reporting requirement.

Estimated Time per Response: 10 minutes—2.5 hours.

Total Annual Burden: 3,187 hours.

Total Annual Cost to Respondents: None.

Obligation to Respond: Required to obtain or retain benefits. The statutory authority is contained in Sections 154(i), 303 and 634 of the Communications Act of 1934, as amended.

Nature and Extent of Confidentiality: There is no assurance of confidentiality provided to respondents.

Privacy Impact Assessment: No impact(s).

Needs and Uses: The FCC Form 396-C is a collection device used to assess compliance with the Equal Employment Opportunity (EEO) program requirements by Multi-channel Video programming Distributors (“MPVDs”). It is publicly filed to allow interested parties to monitor a “MPVD's” compliance with the Commission's EEO requirements. All “MVPDs” must file annually an EEO report in their public file detailing various facts concerning their outreach efforts during the preceding year and the results of those efforts. “MVPDs” will be required to file their EEO public file report for the preceding year as part of the in-depth “MVPD” investigation conducted once every five years.

OMB Control Number: 3060-1163.

Title: Regulations Applicable to Common Carrier and Aeronautical Radio Licensees Under Section 310(b)(4) of the Communications Act of 1934, as Amended.

Form No.: N/A.

Type of Review: Extension of a currently approved collection.

Respondents: Businesses or other profit entities.

Number of Respondents and Responses: 47 respondents and 47 responses.

Estimated Time per Response: 1 hour to 46 hours.

Frequency of Response: On occasion and one-time reporting requirements.

Obligation to Respond: Required to obtain or retain benefits. The statutory authority for these proposed information collections is found in Sections 1, 4(i)-(j), 211, 309, 310, and 403 of the Communications Act of 1934, as amended, 47 U.S.C. 151, 154(i)-(j), 211, 309, 310, and 403.

Total Annual Burden Hours: 660 hours.

Total Annual Costs: $198,000.

Nature and Extent of Confidentiality: An assurance of confidentiality is not offered. This information collection does not require the collection of personally identifiable information (PII) from individuals.

Privacy Act Impact Assessment: No impacts.

Needs and Uses: The Federal Communications Commission (Commission) is requesting a three-year extension of OMB Control No. 3060-1163 from the Office of Management and Budget (OMB).

On April 18, 2013, the Commission adopted final rules in Review of Foreign Ownership Policies for Common Carrier and Aeronautical Radio Licensees under Section 310(b)(4) of the Communications Act of 1934, as Amended, IB Docket No. 11-133, Second Report and Order, FCC 13-50 (rel. Apr. 18, 2013) (Second Report and Order). Among other changes, the final rules eliminated the current need for licensees that have received a foreign ownership ruling to return to the Commission for approval of increased interests by previously approved foreign investors, of foreign ownership in subsidiaries or affiliates, or of new services or new geographic service areas. In addition, the final rules eliminated the current need for approval of certain corporate reorganizations, subject only to a post-closing notification.

This information collection did not replace the existing information collection for section 310(b) of the Act (OMB Control Number 3060-0686). Licensees who received foreign ownership rulings prior to the effective date of the new rules will continue to be subject to the Commission's foreign ownership policies and procedures within the parameters of their rulings, until they seek and obtain a new ruling under the new rules. The Commission determined in the Second Report and Order that it would permit such licensees to file a new petition for declaratory ruling under the new rules, but would not require them to do so.

Federal Communications Commission.
Gloria J. Miles,
Federal Register Liaison Officer, Office of the Secretary.

[FR Doc. 2015-19155 Filed 8-4-15; 8:45 am]

BILLING CODE 6712-01-P